DEPARTMENT OF AGRICULTURE

Food and Nutrition Service

Agency Information Collection Activities: Proposed Collection; Comment Request: Uniform Grant Application Package for Discretionary Grant Programs

AGENCY: Food and Nutrition Service (FNS), USDA.

ACTION: Notice.

SUMMARY: In accordance with the Paperwork Reduction Act of 1995, this notice invites the general public and other public agencies to comment on this proposed information collection. This collection is a revision of a currently approved collection.

The purpose of the Uniform Grant Application Package for Discretionary Grant Programs is to provide a standardized format for the development of all Requests for Applications for discretionary grant programs released by the Food and Nutrition Service (FNS) Agency and to allow for a more expeditious OMB clearance process.

DATES: Written comments must be received on or before January 22, 2016.

ADDRESSES: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Comments may be sent to: Lael Lubing, Food and Nutrition Service, U.S. Department of Agriculture, 3101 Park Center Drive, Room 732, Alexandria, VA 22302. Comments may also be submitted via fax to the attention of Lael Lubing at 703-605-0363 or via email to Lael.Lubing@fns.usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed to Lael Lubing at 703-305-2048.

SUPPLEMENTARY INFORMATION:

Title: Uniform Grant Application Package for Discretionary Grant Programs.

Form Number: SF-424 Form Family.

OMB Number: 0584-0512.

Expiration Date: August 31, 2016.

Type of Request: Revision of a currently approved collection.

Abstract: FNS has a number of discretionary grant programs. (Consistent with the definition in 2 CFR part 200, the term “grant” as used in this notice includes cooperative agreements.) The authorities for these grants vary and will be cited as part of each grant application solicitation. The purpose of the revision to the currently approved collection for the Uniform Grant Application Package for Discretionary Grant Programs is to continue the authority for the established uniform grant application package and to update the number of collection burden hours. The uniform collection package is useable for all of FNS' discretionary grant programs to collect information from grant applicants that are needed to evaluate and rank applicants and protect the integrity of the grantee selection process. All FNS discretionary grant programs will be eligible, but not required, to use the uniform grant application package. Before soliciting applications for a discretionary grant program, FNS will decide whether the uniform grant application package will meet the needs of that grant program. If FNS decides to use the uniform grant application package, FNS will note in the grant solicitation that applicants must use the uniform grant application package and that the information collection has already been approved by OMB. If FNS decides not to use the uniform grant application package or determines that it needs grant applicants to provide additional information not contained in the uniform package, then FNS will publish a notice soliciting comments on its proposal to collect different or additional information before making the grant solicitation.

The uniform grant application package will include general information and instructions; a checklist; a requirement for the program narrative statement describing how the grant objectives will be reached; the Standard Form (SF) 424 series that request basic information, budget information, and a disclosure of lobbying activities certification. The proposed information collection covered by this notice is related to the requirements for the program narrative statement. The requirements for the program narrative statement are based on the requirements for program narrative statements described in 2 CFR part 200, Appendix I, and will apply to all types of grantees—State and Local governments, Indian Tribal organizations, Non-Profit organizations, Institutions of Higher Education, and For-Profit organizations. The information collection burden related to the SF-424 series, and the lobbying certification forms have been separately approved by OMB.

Affected Public: State and local governments, Indian Tribal organizations, Non-Profit organizations, Institutions of Higher Education, and For-Profit organizations.

Estimated Number of Respondents: 1,594.

Number of Responses per Respondent: 18.03.

Estimated Total Annual Responses: 28,742.

Hours per Response: 3.94 Average.

Estimated Total Annual Burden on Respondents: 113,137.

| Annual grant opportunities: Number of respondents | Annual grant opportunities: Frequency of responses | Annual grant opportunities: Total annual responses | Annual grant opportunities: Estimated time per response | Annual grant opportunities: Estimated total annual burden hours
Pre-Award Annual Total Reporting Burden | 950 | 1 | 950 | 60 | 57,000

| Annual post award reporting burden totals
| Number of respondents | Frequency of responses | Total annual responses | Estimated time per response | Estimated total annual burden hours
Post-Award Total Reporting Burden | 644 | 38 | 24,472 | 2.26 | 55,307
Grand Total Annual Reporting Burden | 1,594 | 15.95 | 25,422 | 4.42 | 112,307

| Number of recordkeepers | Annual number records per respondent | Estimated total annual records | Hours per recordkeeper | Total burden
Post Award Recordkeeping Total Burden Estimates | 332 | 10 | 3,320 | 0.25 | 830
Grand Total | 1,594 | 18.03 | 28,742 | 3.94 | 113,137

Dated: November 16, 2015.
Audrey Rowe,
Administrator, Food and Nutrition Service.

[FR Doc. 2015-29695 Filed 11-20-15; 8:45 am]

BILLING CODE 3410-30-P